SECURITIES AND EXCHANGE COMMISSION

[Release No. 34-56315; File No. SR-ISE-2007-58]

Self-Regulatory Organizations; International Securities Exchange, LLC; Order Approving a Proposed Rule Change Relating to ISEE Select Market Data Fees

August 24, 2007.

On July 6, 2007, the International Securities Exchange, LLC (“ISE” or “Exchange”) filed with the Securities and Exchange Commission (“Commission”), pursuant to Section 19(b)(1) of the Securities Exchange Act of 1934 (“Act”) ¹ and Rule 19b-4 thereunder,² a proposed rule change to amend its Schedule of Fees to adopt a subscription fee for an enhanced sentiment market data offering. The proposed rule change was published for comment in the Federal Register on July 25, 2007.³ The Commission received no comments on the proposal. This order approves the proposed rule change.

¹ 15 U.S.C. 78s(b)(1).

² 17 CFR 240.19b-4.

³ See Securities Exchange Act Release No. 56093 (July 18, 2007), 72 FR 40912.

I. Description of the Proposal

The Exchange proposes to offer, to both member and non-member subscribers, a data feed that will provide a bulk delivery of ISEE Select™ (“ISEE Select”) values.⁴ The existing ISEE Select browser application allows a subscriber to access ISEE Select values for up to five securities simultaneously; this proposal will allow subscribers to access numerous ISEE Select values simultaneously. The actual potential number of ISEE Select values accessible by this proposed data feed offering can range from one to more than 1,700.

⁴ ISEE Select allows subscribers to identify bullish and bearish investor sentiment for nearly any issue traded on the Exchange by providing sentiment values for particular indices, industry sectors or individual stocks. These values are calculated three times per hour.

The ISEE Select data feed will have a flat rate subscription fee based on a fixed number of end users that each subscriber allows to view the data, as follows: $0.10 Per end user, per month, for a minimum of 10,000 end users; $0.10 for each additional end user, per month, up to 74,999 end users, in increments of 5,000 end users; $0.084 per end user, per month, for redistribution from 75,000 to 199,999 end users, in increments of 5,000 end users; and $0.0825 per end user, per month, for redistribution to 200,000 or more end users, in minimum increments of 5,000 end users. An example of the monthly subscription fee for a subscriber with 100,000 end users is as follows:

Number of users per increment | Monthly fee per user | Monthly sub-total
10,000 | $.10 | $1,000
10,001-74,999 | .10 | 6,500
75,000-100,000 | .084 | 2,100
Monthly Total |  | 9,600
Average Fee per User |  | .096

II. Discussion

The Commission finds that the proposed rule change is consistent with the requirements of the Act and the rules and regulations thereunder applicable to a national securities exchange.⁵ Specifically, the Commission finds that the proposal is consistent with Section 6(b)(4) of the Act, which requires that an exchange have an equitable allocation of reasonable dues, fees, and other charges among its members and other persons using its facilities. This proposed rule change will diversify ISEE Select offerings by allowing members and non-members to subscribe to a data feed of ISEE Select values at a flat rate subscription fee for redistribution to their customers. Further, we note that the fees are identical for members and non-members. As with other ISEE Select products,⁶ this offering is purely optional; it is not necessary to subscribe to this service to trade options on the ISE.

⁵ In approving this proposed rule change, the Commission has considered the proposed rule's impact on efficiency, competition, and capital formation. 15 U.S.C. 78c(f).

⁶ See, e.g., Securities Exchange Act Release No. 54704 (November 3, 2006), 71 FR 65859 (November 9, 2006) (SR-ISE-2006-44).

III. Conclusion

It is therefore ordered, pursuant to Section 19(b)(2) of the Act, that the proposed rule change (SR-ISE-2007-58) is approved.

For the Commission, by the Division of Market Regulation, pursuant to delegated authority.⁷
⁷ 17 CFR 200.30-3(a)(12).
Nancy M. Morris,
Secretary.

[FR Doc. E7-17162 Filed 8-29-07; 8:45 am]

BILLING CODE 8010-01-P